DEPARTMENT OF TRANSPORTATION

Federal Aviation Administration

14 CFR Part 39

[Docket No. FAA-2010-1197; Directorate Identifier 2010-NM-044-AD; Amendment 39-16736; AD 2011-14-01]

RIN 2120-AA64

Airworthiness Directives; Airbus Model A300 B4-600, B4-600R, and F4-600R Series Airplanes, and Model C4-605R Variant F Airplanes (Collectively Called A300-600 Series Airplanes); and Model A310 Series Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

An operator of an A300-600 aeroplane reported finding a cracked pylon fuel drain pipe on engine #1. * * *

* * * The pipe drains the double wall of the wing-to-pylon junction in the event of fuel leakage.

After investigation, it was concluded that the damage of the pylon fuel drain pipe had been caused by chafing of the pipe against over-length screws that had been installed in accordance with the Illustrated Parts Catalogue (IPC) during a maintenance phase of the Lower Aft Pylon Fairing (LAPF).

This condition, if not detected and corrected, could, in combination with fuel leakage in the pylon, lead to an accumulation of fuel in the lowest point of the LAPF. As high temperatures are present within the LAPF, and without ventilation, this could result in fuel (vapour) ignition and consequent fire.

* * * * *

We are issuing this AD to require actions to correct the unsafe condition on these products.

DATES: This AD becomes effective August 10, 2011.

The Director of the Federal Register approved the incorporation by reference of certain publications listed in this AD as of August 10, 2011.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Dan Rodina, Aerospace Engineer, International Branch, ANM-116, Transport Airplane Directorate, FAA, 1601 Lind Avenue, SW., Renton, Washington 98057-3356; telephone (425) 227-2125; fax (425) 227-1149.

SUPPLEMENTARY INFORMATION:

Discussion

We issued a notice of proposed rulemaking (NPRM) to amend 14 CFR part 39 to include an AD that would apply to the specified products. That NPRM was published in the Federal Register on December 10, 2010 (75 FR 76926). That NPRM proposed to correct an unsafe condition for the specified products. The MCAI states:

An operator of an A300-600 aeroplane reported finding a cracked pylon fuel drain pipe on engine #1.The pipe, Part Number (P/N) A71715020, had separated and the end was found 5.5 inches from the pylon aft bulkhead. A similar case was also reported on an A300F4-608ST aeroplane.

The affected pylon fuel drain pipe runs from the top of the pylon primary structure to the aft part of the pylon rear secondary structure and is partly attached under the pylon lower spar. The pipe drains the double wall of the wing-to-pylon junction in the event of fuel leakage.

After investigation, it was concluded that the damage of the pylon fuel drain pipe had been caused by chafing of the pipe against over-length screws that had been installed in accordance with the Illustrated Parts Catalogue (IPC) during a maintenance phase of the Lower Aft Pylon Fairing (LAPF).

This condition, if not detected and corrected, could, in combination with fuel leakage in the pylon, lead to an accumulation of fuel in the lowest point of the LAPF. As high temperatures are present within the LAPF, and without ventilation, this could result in fuel (vapour) ignition and consequent fire.

To address and correct this unsafe condition, EASA * * * required an inspection [for missing pipes, or distortions or holes] of the pylon fuel drain pipe and the attachment screws and, depending on findings, the necessary corrective actions. In case over-length screws are found to be installed, depending on location and aeroplane configuration, these must be replaced.

* * * * *

Required actions also include visually inspecting to determine the length and part number of the drain pipe attachment screws on the LAPF on the left- and right-hand pylons. Corrective actions include replacing or repairing the pipe, or replacing screws with incorrect part numbers with new screws. You may obtain further information by examining the MCAI in the AD docket.

Comments

We gave the public the opportunity to participate in developing this AD. We considered the comments received.

Request To Extend the Compliance Time

UPS requested that we extend the compliance time from 30 days to 30 months after the effective date of the AD. Per the commenter, the NPRM stated that the over-length screws installed on the affected aircraft were installed in accordance with the illustrated parts catalog (IPC), and that the correct attachment screws are clearly identified in the UPS A300-600 IPC, so there is a minimal probability of installing an over-length screw. The commenter stated that the compliance time of 30 days is too restrictive and believes that extending the threshold to 30 months for those operators whose IPC does not list an over-length fastener would provide an equivalent level of safety and better fit within an operator's routine maintenance program and eliminate any undue burden associated with a restrictive timetable.

We do not agree to extend the compliance time. The FAA received information confirming that over-length screws could have been introduced in production due to some erroneous drawings. Further, before 2007, not all IPCs were correct. Some of the IPCs for aircraft fitted with Pratt & Whitney engines were corrected in 2007. All IPCs were checked in 2010, and remaining erroneous IPCs were corrected. Although UPS may have the correct IPC, since some over-length screws could have been installed during production, a fleet inspection is needed to address the identified unsafe condition. However, under the provisions of paragraph (k) of this AD, we will consider requests for approval of an extension of the compliance time if sufficient data are submitted to substantiate that the new compliance time would provide an acceptable level of safety. We have not changed the AD in this regard.

Request To Use Thicker Washer as Advised in Service Information Letter

UPS requested FAA concurrence that using an alternative washer, P/N NSA5149-3, as recommended by Airbus in Service Information Letter 54-035, Revision 01, dated July 9, 2010, will not have an impact on the AD. This washer would be used in lieu of P/N NSA5149-4 under the head of the attachment screws, to prevent cracking of the LAPF.

We partially agree with the commenter's request. The alternative washer is a recommended improvement, but not a modification addressing an unsafe condition/airworthiness issue. As the Service Information Letter mentions, both washers are fully interchangeable; the last IPC update (2010) also reflects this interchangeability. Therefore, we confirm that use of either washer is adequate. In this regard, and to avoid the need for an alternative method of compliance (AMOC) on this issue in the future, we have added the washer having P/N NSA5149-3 to paragraphs (g)(1) and (g)(2) of this AD.

Conclusion

We reviewed the available data, including the comments received, and determined that air safety and the public interest require adopting the AD with the change described previously. We determined that this change will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect 168 products of U.S. registry. We also estimate that it will take about 4 work-hours per product to comply with the basic requirements of this AD. The average labor rate is $85 per work-hour. Based on these figures, we estimate the cost of this AD to the U.S. operators to be $57,120, or $340 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2011-14-01 Airbus: Amendment 39-16736. Docket No. FAA-2010-1197; Directorate Identifier 2010-NM-044-AD.

Effective Date

(a) This airworthiness directive (AD) becomes effective August 10, 2011.

Affected ADs

(b) None.

Applicability

(c) This AD applies to Airbus Model A300 B4-601, B4-603, B4-620, and B4-622 airplanes; Model A300 B4-605R and B4-622R airplanes; Model A300 F4-605R and F4-622R airplanes; Model A300 C4-605R Variant F airplanes; and Model A310-203, -204, -221, -222, -304, -322, -324, and -325 airplanes; certificated in any category; all serial numbers.

Subject

(d) Air Transport Association (ATA) of America Code 54: Nacelles/pylons.

Reason

(e) The mandatory continuing airworthiness information (MCAI) states:

An operator of an A300-600 aeroplane reported finding a cracked pylon fuel drain pipe on engine #1. * * *

* * * The pipe drains the double wall of the wing-to-pylon junction in the event of fuel leakage.

After investigation, it was concluded that the damage of the pylon fuel drain pipe had been caused by chafing of the pipe against over-length screws that had been installed in accordance with the Illustrated Parts Catalogue (IPC) during a maintenance phase of the Lower Aft Pylon Fairing (LAPF).

This condition, if not detected and corrected, could, in combination with fuel leakage in the pylon, lead to an accumulation of fuel in the lowest point of the LAPF. As high temperatures are present within the LAPF, and without ventilation, this could result in fuel (vapour) ignition and consequent fire.

* * * * *

Compliance

(f) You are responsible for having the actions required by this AD performed within the compliance times specified, unless the actions have already been done.

Inspection and Corrective Actions

(g) Within 30 days after the effective date of this AD, do a general visual inspection for missing pipes, or distortions or holes, of the fuel drain pipes of the LAPF, and if no missing pipes, distortions, and holes are found, do a general visual inspection to determine the length and part number of the drain pipe attachment screws on the LAPF on the left-hand and right-hand pylons, in accordance with the Accomplishment Instructions of Airbus Mandatory Service Bulletin A300-54A6039, Revision 01, dated March 11, 2010 (for Model A300-600 series airplanes); or A310-54A2040, Revision 02, dated June 10, 2010 (for Model A310 series airplanes).

(1) If missing pipes, distortions, or holes of the fuel drain pipes are detected during any inspection required by paragraph (g) of this AD, before further flight, replace the drain pipe, in accordance with the Accomplishment Instructions of Airbus Mandatory Service Bulletin A300-54A6039, Revision 01, dated March 11, 2010 (for Model A300-600 series airplanes); or A310-54A2040, Revision 02, dated June 10, 2010 (for Model A310 series airplanes); or contact Airbus for repair instructions and do the repair; except where the applicable service bulletin specifies using washers having part number (P/N) NSA5149-4, washers having P/N NSA5149-3 may alternatively be used.

(2) If screw length is outside the measurement specified in the Accomplishment Instructions of Airbus Mandatory Service Bulletin A300-54A6039, Revision 01, dated March 11, 2010 (for Model A300-600 series airplanes); or A310-54A2040, Revision 02, dated June 10, 2010 (for Model A310 series airplanes); or screws having incorrect part numbers are found during any inspection required by paragraph (g) of this AD, before further flight, replace the screws with screws having P/N NAS1102E3-10, NAS1102E3-12, or NAS560HK3-2, as applicable to location and airplane (engine) configuration, in accordance with the Accomplishment Instructions of Airbus Mandatory Service Bulletin A300-54A6039, Revision 01, dated March 11, 2010 (for Model A300-600 series airplanes); or A310-54A2040, Revision 02, dated June 10, 2010 (for Model A310 series airplanes); except where the applicable service bulletin specifies using washers having P/N NSA5149-4, washers having P/N NSA5149-3 may alternatively be used.

(h) As of the effective date of this AD, do not install screws on the LAPF, other than screws having P/N NAS1102E3-10, NAS1102E3-12, or NAS560HK3-2, as applicable to location and airplane (engine) configuration, in accordance with the Accomplishment Instructions of Airbus Mandatory Service Bulletin A300-54A6039, Revision 01, dated March 11, 2010 (for Model A300-600 series airplanes); or A310-54A2040, Revision 02, dated June 10, 2010 (for Model A310 series airplanes).

Credit for Actions Accomplished in Accordance With Previous Service Information

(i) Actions accomplished before the effective date of this AD in accordance with the service bulletins identified in table 1 of this AD are considered acceptable for compliance with the corresponding actions specified in this AD.

Table 1—Credit Service Bulletins
For model— | Airbus Mandatory Service Bulletin— | Revision— | Dated—
A300-600 series airplanes | A300-54A6039 | Original | January 19, 2010.
A310 series airplanes | A310-54A2040 | Original | January 19, 2010.
A310 series airplanes | A310-54A2040 | 01 | March 11, 2010.

No Reporting

(j) Although Airbus Mandatory Service Bulletins A300-54A6039, Revision 01, dated March 11, 2010; and A310-54A2040, Revision 02, dated June 10, 2010; specify to submit certain information to the manufacturer, this AD does not include that requirement.

FAA AD Differences

Note 1: This AD differs from the MCAI and/or service information as follows: Although the MCAI or service information tells you to submit information to the manufacturer, paragraph (j) of this AD does not require that information.

Other FAA AD Provisions

(k) The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue, SW., Renton, Washington 98057-3356; telephone (425) 227-2125; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(l) Refer to MCAI European Aviation Safety Agency Airworthiness Directive 2010-0085, dated May 3, 2010; Airbus Mandatory Service Bulletin A300-54A6039, Revision 01, dated March 11, 2010; and Airbus Mandatory Service Bulletin A310-54A2040, Revision 02, dated June 10, 2010; for related information.

Material Incorporated by Reference

(m) You must use Airbus Mandatory Service Bulletin A300-54A6039, Revision 01, excluding Appendix 01 and including Appendices 02 and 03, dated March 11, 2010; or Airbus Mandatory Service Bulletin A310-54A2040, Revision 02, excluding Appendix 01 and including Appendices 02 and 03, dated June 10, 2010; as applicable; to do the actions required by this AD, unless the AD specifies otherwise.

(1) The Director of the Federal Register approved the incorporation by reference of this service information under 5 U.S.C. 552(a) and 1 CFR part 51.

(2) For service information identified in this AD, contact Airbus SAS—EAW (Airworthiness Office), 1 Rond Point Maurice Bellonte, 31707 Blagnac Cedex, France; telephone +33 5 61 93 36 96; fax +33 5 61 93 44 51; e-mail: account.airworth-eas@airbus.com; Internet http://www.airbus.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on June 16, 2011.
Ali Bahrami,
Manager, Transport Airplane Directorate, Aircraft Certification Service.

[FR Doc. 2011-15991 Filed 7-5-11; 8:45 am]

BILLING CODE 4910-13-P